DEPARTMENT OF JUSTICE

Notice of Lodging of Proposed Settlement Agreement Under the Comprehensive Environmental Response, Compensation and Liability Act (CERCLA)

Notice is hereby given that on January 25, 2008, a proposed Settlement Agreement regarding the Butte Mine Flooding Superfund Site, also knows as the Berkley Pit Site, was filed with the United States District Court of Montana in United States v. Atlantic Richfield, Civ. Action No. 02-35-BU-SEH (D. Mont.) The proposed Settlement Agreement, which was approved by the Bankruptcy Court for the Southern District of Texas, pertains primarily to ASARCO's liability at this site under a consent decree previously entered by the United States District Court in Montana on August 14, 2002. The terms of the Settlement Agreement require an additional approval by the United States District Court in Montana, following a period of public comment, for the Settlement Agreement to become effective.

The proposed Settlement Agreement reflects an agreement among ASARCO, the United States, the State of Montana, and another defendant at the Butte Mine Flooding Site—Montana Resources Incorporated (“MRI”). Under the terms of the Agreement, MRI will receive an allowed general unsecured claim against ASARCO of $8.67 million, which MRI can use only toward cleanup of the Butte Mine Flooding Site, which is proceeding under the Comprehensive Environmental Response, Compensation, and Liability Act (“CERCLA”), as amended, 42 U.S.C. 9601-9675. MRI is also allowed other claims relating to the Butte Mine Flooding Site under the Settlement Agreement. In exchange for MRI's allowed claims, the obligations of ASARCO and its subsidiary, AR Montana, under the Butte Mine Flooding Consent Decree will be deemed to be fully resolved and satisfied, and ASARCO will be removed as a party to the decree, subject to certain conditions set forth in the Settlement Agreement.

The Department of Justice will receive comments relating to the proposed Agreement for a period of thirty (30) days from the date of this publication. Comments should be addressed to the Assistant Attorney General, Environment and Natural Resources Division, and either emailed to pubcomment-ees.enrd@usdoj.gov or mailed to P.O. Box 7611, U.S. Department of Justice, Washington, DC 20044-7611, and should refer to United States v. Atlantic Richfield, DJ Ref. No. 90-11-2-430.

The proposed Agreement may be examined at the office of the United States Attorney for the District of Montana, 2929 Third Avenue North, Suite 400, Billings, Montana 59101, and at the U.S. EPA Region VIII Montana Office, Federal Building, 10 West 15th Street, Suite 3200, Helena, Montana 59624. During the public comment period, the proposed Agreement may also be examined on the following Department of Justice Web site: http://www.usdoj.gov/enrd/Consent_Decrees.html. In addition, a copy of the proposed Agreement may be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $5.00 (25 cents per page reproduction costs) payable to the U.S. Treasury.

W. Benjamin Fisherow,
Deputy Chief, Environmental Enforcement Section, Environment and Natural Resources Division.

[FR Doc. 08-670 Filed 2-14-08; 8:45 am]

BILLING CODE 4410-15-M